DEPARTMENT OF LABOR

Occupational Safety and Health Administration

[Docket No. ICR-1218-0145 (2004)]

Formaldehyde Standard (29 CFR 1910.1048); Extension of the Office of Management and Budget's (OMB) Approval of Information Collection (Paperwork) Requirements

AGENCY: Occupational Safety and Health Administration (OSHA); Labor.

ACTION: Request for comment.

SUMMARY: OSHA solicits comments concerning its proposal to decrease the existing burden hour estimates, and to extend OMB approval of the information collection requirements of the Formaldehyde Standard (29 CFR 1910.1048). The standard protects employees from adverse health effects from occupational exposure to Formaldehyde.

DATES: Comments must be submitted by the following dates:

Hard Copy: Your comments must be submitted (postmarked or received) by February 10, 2004.

Facsimile and electronic transmission: Your comments must be sent by February 10, 2004.

ADDRESSES:

I. Submission of Comments

Regular mail, express delivery, hand-delivery, and messenger service: Submit your comments and attachments to the OSHA Docket Office, Docket No. ICR-1218-0145 (2004), Room N-2625, U.S. Department of Labor, 200 Constitution Avenue, NW., Washington, DC 20210. OSHA Docket Office and Department of Labor hours of operation are 8:15 a.m. to 4:15 p.m., e.s.t.

Facsimile: If your comments, including any attachments, are 10 pages or fewer, you may fax them to the OSHA Docket Office at (202) 693-1648. You must include the docket number, ICR-1218-0145 (2004), in your comments.

Electronic: You may submit comments, but not attachments, through the Internet at http://ecomments.osha.gov. (Please see the SUPPLEMENTARY INFORMATION below for additional information on submitting comments.)

You may submit comments in response to this document by (1) Hard copy, (2) FAX transmission (facsimile), or (3) electronically through the OSHA Web page. Please note you cannot attach materials such as studies or journal articles to electronic comments. If you have additional materials, you must submit three copies of them to the OSHA Docket Office at the address above. The additional materials must clearly identify your electronic comments by name, date, subject and docket number so we can attach them to your comments. Because of security-related problems there may be a significant delay in the receipt of comments by regular mail. Please contact the OSHA Docket Office at (202) 693-2350 for information about security procedures concerning the delivery of materials by express delivery, hand delivery and messenger service.

II. Obtaining Copies of the Supporting Statement for the Information Collection Request

The Supporting Statement for the Information Collection Request (ICR) is available for downloading from OSHA's Web site at http://www.osha.gov. The complete ICR, containing the OMB-83-I Form, Supporting Statement, and attachments, is available for inspection and copying in the OSHA Docket Office, at the address listed above. A printed copy of the ICR can be obtained by contacting Todd Owen at (202) 693-2222.

FOR FURTHER INFORMATION CONTACT: Todd Owen, Directorate of Standards and Guidance, OSHA, U.S. Department of Labor, Room N-3609, 200 Constitution Avenue, NW., Washington, DC 20210; telephone (202) 693-2222.

SUPPLEMENTARY INFORMATION:

I. Background

The Department of Labor, as part of its continuing effort to reduce paperwork and respondent (i.e. employer) burden, conducts a preclearance consultation program to provide the public with an opportunity to comment on proposed and continuing information collection requirements in accordance with the Paperwork Reduction Act of 1995 (PRA-95) (44 U.S.C. 3506(c)(2)(A)). This program ensures that information is in the desired format, reporting burden (time and costs) is minimal, collection instruments are clearly understood, and OSHA's estimate of the information collection burden is correct. The Occupational Safety and Health Act of 1970 (the Act) authorizes information collection by employers as necessary or appropriate for enforcement of the Act or for developing information regarding the causes and prevention of occupational injuries, illnesses, and accidents (29 U.S.C. 657).

The information collection requirements specified in the Formaldehyde Standard protect employees from the adverse health effects that may result from their exposure to Formaldehyde. The major information collection requirements of the Formaldehyde Standard require employers to perform exposure monitoring to determine employees exposure to Formaldehyde, notifying employees of their Formaldehyde exposures, providing examining physicians with specific information, ensuring that employees receive a copy of their medical examination results, training, maintaining employees' exposure monitoring and medical records for specific periods, and providing access to these records by OSHA, the National Institute for Occupational Safety and Health, the affected employees, and their authorized representatives.

II. Special Issues for Comment

OSHA has a particular interest in comments of the following issues:

—Whether the information collection requirements are necessary for the proper performance of the Agency's functions, including whether the information is useful;

—The accuracy of the Agency's estimate of the burden (time and costs) of the information collection requirements, including the validity of the methodology and assumptions used;

—The quality, utility, and clarity of the information collected; and

—Ways to minimize the burden on employers who must comply; for example, by using automated or other technological information collection and transmission techniques.

III. Proposed Actions

OSHA proposes to extend the Office of Management and Budget's (OMB) approval of the collection of information requirements specified by the Standard on Formaldehyde (29 CFR 1910.1048). OSHA is lowering its burden hour estimate by 100.597 hours mainly as a result of lowering the estimated number of employee medical examinations. The Agency will summarize the comments submitted in response to this notice, and will include this summary in its request to OMB to extend the approval of these information collection requirements.

Type of Review: Extension of currently approved information collection requirements.

Title: Formaldehyde Standard (29 CFR 1910.1048).

OMB Number: 1218-0145.

Affected Public: Business or other for-profit organizations; Federal government; State, local, or tribal governments.

Number of Respondents: 133,196.

Frequency: On occasion.

Total Responses: 1,794,628.

Average Time per Response: Varies from 5 minutes for employers to maintain exposure monitoring and medical records for each employee to 1 hour for employees to receive a medical examination.

Estimated Total Burden Hours: 490,482 hours.

Estimated Cost (Operation and Maintenance): $52,058,424.

IV. Authority and Signature

John L. Henshaw, Assistant Secretary of Labor for Occupational Safety and Health, directed the preparation of this notice. The authority for this notice is the Paperwork Reduction Act of 1995 (44 U.S.C. 3506) and Secretary of Labor's Order No. 5-2002 (67 FR 65008).

Signed at Washington, DC, on December 4, 2003.
John L. Henshaw,
Assistant Secretary of Labor.

[FR Doc. 03-30789 Filed 12-11-03; 8:45 am]

BILLING CODE 4510-26-M